DEPARTMENT OF COMMERCE

International Trade Administration

[A-475-829]

Stainless Steel Bar From Italy; Extension of Time Limit for the Preliminary Results of the Antidumping Duty Administrative Review

AGENCY: Import Administration, International Trade Administration, Department of Commerce.

DATES: Effective Date: November 17, 2004.

FOR FURTHER INFORMATION CONTACT: Melanie Brown, AD/CVD Enforcement, Office 1, Import Administration, International Trade Administration, U.S. Department of Commerce, 14th Street and Constitution Avenue, NW., Washington DC 20230; telephone (202) 482-4987.

Background

On May 27, 2004, the Department of Commerce (“the Department”) published a notice of initiation of administrative review of the antidumping duty order on stainless steel bar from Italy covering the period March 1, 2003, through February 29, 2004 (69 FR 30282). The preliminary results in the antidumping duty administrative review of stainless steel bar from Italy are currently due no later than December 1, 2004.

Extension of Time Limits for Preliminary Results

Section 751(a)(3)(A) of the Tariff Act of 1930 (“the Act”) requires the Department to issue the preliminary results of an administrative review within 245 days after the last day of the anniversary month of an antidumping duty order for which a review is requested and issue the final results within 120 days after the date on which the preliminary results are published. However, if the Department finds it is not practicable to complete the review within the time period, section 751(a)(3)(A) of the Act allows the Department to extend these deadlines to a maximum of 365 days and 180 days, respectively.

The Department finds that it is not practicable to complete the preliminary results in this administrative review of stainless steel bar from Italy within the originally anticipated time limit. Additional time is needed due to complex verification and affiliation issues in this case.

Therefore, the Department is extending the time limit for completion of the preliminary results to February 1, 2005, in accordance with section 751(a)(3)(A) of the Act.

We are issuing and publishing this notice in accordance with sections 751(a)(1) and 777(i)(1) of the Act.

Dated: November 8, 2004.
Jeffrey A. May,
Deputy Assistant Secretary for Import Administration.

[FR Doc. E4-3176 Filed 11-16-04; 8:45 am]

BILLING CODE 3510-DS-P